DEPARTMENT OF AGRICULTURE

Forest Service

DEPARTMENT OF INTERIOR

Bureau of Land Management

[ID-918-00-1610-DE-UCRB]

Interior Columbia Basin Ecosystem Management Project, Northern, Intermountain, and Pacific Northwest Regions and States of Oregon, Washington, Idaho, Montana

AGENCIES: Forest Service, USDA; Bureau of Land Management, USDI.

ACTION: Notice of availability of a supplemental draft environmental impact statement (EIS).

SUMMARY: The Forest Service and Bureau of Land Management are developing a scientifically sound, ecosystem-based management strategy for certain lands under their jurisdiction east of the Cascade crest in Oregon and Washington and in the Columbia River Basin in Idaho and Montana. Comments following review of the Eastside Draft Environmental Impact Statement and the Upper Columbia River Basin Draft Environmental Impact Statement have led the agencies to revisit and refine the management direction described and analyzed in the draft EISs. The refined management direction addresses those issues which need resolution at the basin-wide scale. The geographic scope of the effort has been narrowed. The agencies have prepared one supplemental draft EIS to analyze the refined strategy, addressing what had been covered by the two draft EISs in one document. The supplemental draft EIS includes a summary of the comments received on the two draft EISs and response to those comments.

DATES: The supplemental draft EIS is now available for public review and comment. A 90-day public comment period is provided. Public outreach to explain the supplemental draft EIS and to assist the public with commenting on it will be conducted throughout the Project area during the comment period. Notice of dates and locations of these efforts will be given through mailings and local media. Comments on the supplemental draft EIS must be submitted in writing by July 6, 2000. The Interior Columbia Basin Ecosystem Management Project (ICBEMP) interdisciplinary team will then analyze the comments and respond to them in a final EIS. The final EIS is expected to be available in late fall, 2000, and the record of decision (ROD) will be signed shortly thereafter.

ADDRESSES: Copies of the supplemental draft EIS may be obtained from ICBEMP, 304 N. 8th Street, Room 250, Boise, ID 83702 or by calling (208) 334-1770, ext. 120. The supplemental draft EIS is also available via the internet (http://www.icbemp.gov). Comments on the supplemental draft EIS should be submitted in writing to SDEIS, P.O. Box 420, Boise, Idaho 83701-0420. Comments may be submitted electronically at the Project's home page (http://www.icbemp.gov), where a comment form is available. Comments, including names and street addresses of respondents, will be available for public review at the Boise office during regular business hours (8 a.m. to 5 p.m. Monday through Friday, except holidays), and may be published as part of the final environmental impact statement. Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be made available for public inspection in their entirety. Comments submitted anonymously will be accepted and considered; however, those who submit anonymous comments may not have standing to appeal the decision under 36 CFR 217 (Forest Service) or standing to protest the proposed decision under 43 CFR 1610.5-2 (Bureau of Land Management).

FOR FURTHER INFORMATION CONTACT: Susan Giannettino, Project Manager, 304 North 8th St., Room 250, Boise, Idaho 83702, phone (208) 334-1770; or Geoff Middaugh, Deputy Project Manager, P.O. Box 2344, Walla Walla, Washington 99362, phone (509) 522-4030.

SUPPLEMENTARY INFORMATION: On February 1, 1994, the Forest Service and Bureau of Land Management published, in the Federal Register, a notice of intent to prepare an EIS (the Eastside Environmental Impact Statement) to develop a scientifically sound, ecosystem-based management strategy for the lands managed by those two agencies and located east of the Cascade crest in Oregon and Washington. On December 7, 1994, the Forest Service and Bureau of Land Management published a notice of intent to prepare an EIS (the Upper Columbia River Basin Environmental Impact Statement) and conduct planning activity to develop a scientifically sound, ecosystem-based management strategy for lands administered by those two agencies within the Columbia River basin in the states of Idaho, Montana, Wyoming, Utah, and Nevada. On August 7, 1995, the two agencies published an amended notice of intent excluding the Forest Service-administered lands within the Greater Yellowstone Ecosystem from the Upper Columbia River Basin planning effort.

On June 6, 1997, the Environmental Protection Agency published its notice of availability of the two draft EISs—Eastside draft EIS and Upper Columbia River Basin draft EIS—and informed the public of a 120-day public review period. The review period was ultimately extended to eleven months. During the public review period, over 83,000 responses, commenting on the two draft EISs, were received.

To simplify further public review, to clarify the fact that one broad-scale strategy is being developed, and to save time and money in preparation, printing, and distribution of additional documents, the Executive Steering Committee (the responsible officials for this project) has decided that future environmental analysis of alternative management strategies will be documented in one EIS, rather than two. (This unified effort is referred to as the Interior Columbia Basin Ecosystem Management Project (ICBEMP)). Further, alternative management strategies will focus on issues that are best addressed at the basin-wide scale. Those issues that are limited to smaller geographic units (individual or small groupings of administrative units) will be resolved at that level through local public involvement and the land management agencies' existing planning and decision-making processes.

The Executive Steering Committee decided to refine the management direction being developed in response to public comment. They determined that the refined management direction could include substantial changes in the proposed action that would be relevant to environmental concerns, and that the purposes of the National Environmental Policy Act would be furthered by preparing a supplemental draft EIS.

The supplemental draft EIS is responsive to the basin-wide issues identified during the initial public scoping and described in the two draft EISs, the public comments received on the two draft EISs, and the findings of the Science Integration Team, described in An Assessment of Ecosystem Components in the Interior Columbia Basin and Portions of the Klamath and Great Basins (Quigley, and Arbelbide, eds 1997) and Integrated Scientific Assessment for ecosystem management in the interior Columbia basin and portions of the Klamath and Great Basins (Quigley, Haynes and Graham, eds) 1996.

The characteristics of the refined management direction described and analyzed in the supplemental draft EIS are as follows:

1. It addresses the limited number of issues that must be resolved at the Basin level.

2. It describes an aquatic conservation strategy to replace interim strategies, PacFish and InFish. Also, the biological opinion (pursuant to formal consultation under Section 7 of the Endangered Species Act) on the ICBEMP selected alternative will replace the three biological opinions recently completed on the Land and Resource Management Plans as amended by PacFish and InFish (National Marine Fisheries Service (NMFS), 1995, NMFS 1998, US Fish and Wildlife Service, 1998). The aquatic conservation strategy is also to provide adequate habitat and water quality to result in long-term viability for steelhead, salmon, cutthroat, bull trout and other aquatic species; and to address Basin-wide Clean Water Act responsibilities.

3. The refined direction describes a terrestrial habitat strategy to provide habitat for wide-ranging species. Species that have limited ranges and require site-specific information (e.g., woodland caribou) will be addressed at the scale most appropriate to their needs rather than in the ICBEMP planning.

4. Landscape health issues will be addressed through objectives and standards to provide a common set of desired outcomes and to coordinate budgeting, priority setting, and on-the-ground activities. (Specific design of activities will be addressed at the local level, rather than in this basin-wide supplemental draft EIS.) Issues addressed include the spread of noxious weeds, and the potential for unnaturally large and dangerous wild fires.

5. The supplemental draft EIS includes objectives and standards designed to ensure land management considers and, to the extent possible, supports economic and/or social needs of people, cultures, and communities through more sustainable and predictable levels of goods and services from National Forest System and Bureau of Land Management lands. The objectives and standards will respond to the need to contribute to the vitality and resiliency of human communities and to provide for human uses and values of natural resources consistent with maintaining healthy, diverse ecosystems.

Regarding the decisions recorded in the Record of Decision for Amendments to Forest Service and Bureau of Land Management Planning Documents Within the Range of the Northern Spotted Owl, (also referred to as the Northwest Forest Plan) approved April 13, 1994, the Eastside draft EIS said, “While the alternatives and corresponding analysis in the EIS include this overlap area [i.e., that portion of the range of the northern spotted owl found east of the Cascade crest], decisions in the Northwest Forest Plan would not be superseded by Eastside EIS decisions unless subsequent amendments were made per Northwest Forest Plan direction.” Many readers were not certain what this meant. To reduce confusion, the Executive Steering Committee for ICBEMP has eliminated this overlap area from the ICBEMP decision space. The record of decision for the ICBEMP will not apply to any area already being managed under the Northwest Forest Plan.

As noted above, the refined management direction is being developed to address issues that are best resolved at the basin-wide scale. The Executive Steering Committee has determined that current issues on Forest Service- and Bureau of Land Management-administered lands within the States of Wyoming, Utah, and Nevada do not need to be resolved at the basin level and will be more efficiently addressed through existing planning processes at the local (National Forest or BLM District/Field Office) level. (The approximate acreage of Forest Service-and Bureau of Land Management-administered lands within the Columbia River Basin within each of these three states is as follows: Wyoming, 23,000; Utah, 111,500; and Nevada, 2.6 million, for a total of 2.7 million acres, or about 4% of the Forest Service- and Bureau of Land Management-administered lands within the ICBEMP area.) No basin-wide issues have been identified on the lands within the Columbia River Basin administered by BLM in Wyoming. In Utah, the Forest Service will replace its interim InFish strategy (which applies to native fish within the planning area) through the Sawtooth National Forest plan revision, scheduled for completion by the end of the year 2000. In Nevada, the Forest Service will replace the interim InFish strategy through the plan amendment process.

Therefore, no Bureau of Land Management- or Forest Service-administered lands in Wyoming, Utah, or Nevada will be included in the supplemental draft EIS, final EIS, or the record of decision for the Interior Columbia Basin Ecosystem Management Project.

The Supplemental draft EIS describes and analyzes three alternatives: a no action alternative, updated from the version presented in the two draft EISs; and two alternatives that share the characteristics of the refined management direction described earlier in this notice. One of these two alternatives describes a relatively conservative approach to decreasing long-term risk. The other explores the potential to decrease long-term risk faster by accepting greater short-term risk. This latter alternative requires less analysis before restoration is undertaken.

The selected alternative may result in amendment to the Forest Service Regional Guides for the Northern, Intermountain, and Pacific Northwest Regions and will amend land use plans for the administrative units of the Forest Service and Bureau of Land Management within the ICBEMP area as follows:

Forest Service: Boise, Payette, Salmon-Challis, and Sawtooth National Forests and the portion of the Caribou National Forest outside the Greater Yellowstone Ecosystem in the Intermountain Region; Panhandle, Clearwater, Nez Perce, Kootenai, Lolo, Flathead, Helena, Deerlodge, and Bitterroot National Forests in the Northern Region; and Ochoco, Winema, Malheur, Deschutes, Fremont, Wallowa-Whitman, Umatilla, Okanogan, and Colville National Forests in the Pacific Northwest Region. Bureau of Land Management: Lower Snake River District, Upper Snake River District, and the Upper Columbia-Salmon Clearwater District in Idaho; Missoula Field Office in Montana; and Prineville, Lakeview, Burns, Vale, and Spokane Districts in Oregon/Washington.

Dated: March 22, 2000.
Martha Hahn,
State Director, Bureau of Land Management.
Dated: March 23, 2000.
Dale Bosworth,
Regional Forester, U.S. Forest Service.

[FR Doc. 00-8208 Filed 4-3-00; 8:45 am]

BILLING CODE 4310-GG-P